SMALL BUSINESS ADMINISTRATION

13 CFR Part 127

RIN 3245-AG75

Women-Owned Small Business and Economically Disadvantaged Women-Owned Small Business Certification; Correction

AGENCY: U.S. Small Business Administration.

ACTION: Correcting amendment.

SUMMARY: The U.S. Small Business Administration (SBA or Agency) is correcting regulations that published in the Federal Register on May 11, 2020. The final rule amended SBA's regulations to implement a statutory requirement to certify Women-Owned Small Business Concerns (WOSBs) and Economically-Disadvantaged Women-Owned Small Business Concerns (EDWOSBs), as well as to clarify existing regulations. This document makes corrections to the final regulations.

DATES: Effective January 14, 2021.

FOR FURTHER INFORMATION CONTACT: Brenda Fernandez, Office of Policy, Planning and Liaison, 409 Third Street SW, Washington, DC 20416; (202) 205-7337; brenda.fernandez@sba.gov.

SUPPLEMENTARY INFORMATION: This is a correction to a final rule published in the Federal Register on May 11, 2020 (85 FR 27650). SBA is correcting dates that were inadvertently transposed in one of the examples to 13 CFR 127.400. Additionally, SBA is correcting the language in two of the examples to 13 CFR 127.400 to ensure the examples accurately illustrate the application of the new regulatory provisions.

List of Subjects in 13 CFR Part 127

Government contracts, Reporting and recordkeeping requirements, Small businesses.

Accordingly, 13 CFR part 127 is corrected by making the following correcting amendments:

PART 127—WOMEN-OWNED SMALL BUSINESS FEDERAL CONTRACT PROGRAM

1. The authority citation for part 127 continues to read as follows:

Authority: 15 U.S.C. 632, 634(b)(6), 637(m), 644 and 657r.

2. Amend § 127.400 by revising paragraph (b)(1) to read as follows:

§ 127.400 How does a concern maintain its WOSB or EDWOSB certification?

* * * * *

(b) * * *

(1) SBA or a third-party certifier will conduct a program examination three years after the concern's initial WOSB or EDWOSB certification (whether by SBA or a third-party certifier) or three years after the date of the concern's last program examination, whichever date is later.

Example 1 to paragraph (b)(1). Concern A is certified by SBA to be eligible for the WOSB program on July 20, 2021. Concern A will be considered a certified WOSB that is eligible to receive WOSB contracts (as long as it is small for the size standard corresponding to the NAICS code assigned to the contract) through July 19, 2022. To participate in the WOSB Program the following year, Concern A must recertify its eligibility to SBA between June 20, 2022, and July 19, 2022. Concern A will be considered a certified WOSB that is eligible to receive WOSB contracts (as long as it is small for the size standard corresponding to the NAICS code assigned to the contract) through July 19, 2023. To participate in the WOSB Program the following year, Concern A must recertify its eligibility to SBA between June 20, 2023, and July 19, 2023. Concern A will be considered a certified WOSB that is eligible to receive WOSB contracts (as long as it is small for the size standard corresponding to the NAICS code assigned to the contract) through July 19, 2024. To participate in the WOSB Program the following year, Concern A must recertify its eligibility to SBA between June 20, 2024, and July 19, 2024. Because three years will have elapsed since its application and original certification, SBA will conduct a program examination of Concern A at that time. In addition to its representation that it continues to be an eligible WOSB, Concern A must provide additional information as requested by SBA to demonstrate that it continues to meet all the eligibility requirements of the WOSB Program.

Example 2 to paragraph (b)(1). Concern B is certified by a third-party certifier to be eligible for the WOSB program on September 27, 2021. Concern B will be considered a certified WOSB that is eligible to receive WOSB contracts (as long as it is small for the size standard corresponding to the NAICS code assigned to the contract) through September 26, 2022. To participate in the WOSB Program the following year, Concern B must recertify its eligibility to SBA between August 28, 2022, and September 26, 2022. Concern B will be considered a certified WOSB that is eligible to receive WOSB contracts (as long as it is small for the size standard corresponding to the NAICS code assigned to the contract) through September 26, 2023. On March 31, 2023, Concern B is awarded a WOSB set-aside contract. Subsequently, Concern B's status as an eligible WOSB is protested. On June 28, 2023, Concern B receives a positive determination from SBA confirming that it is an eligible WOSB. Concern B's new certification date is June 28, 2023. Concern B will be considered a certified WOSB that is eligible to receive WOSB contracts (as long as it is small for the size standard corresponding to the NAICS code assigned to the contract) through June 27, 2024. To participate in the WOSB Program the following year, Concern B must recertify its eligibility to SBA between May 29, 2024, and June 27, 2024. Concern B will be considered a certified WOSB that is eligible to receive WOSB contracts (as long as it is small for the size standard corresponding to the NAICS code assigned to the contract) through June 27, 2025. To participate in the WOSB Program the following year, Concern B must recertify its eligibility to SBA between May 29, 2025, and June 27, 2025. Concern B will be considered a certified WOSB that is eligible to receive WOSB contracts (as long as it is small for the size standard corresponding to the NAICS code assigned to the contract) until June 27, 2026. To participate in the WOSB Program the following year, Concern B must recertify its eligibility to SBA between May 29, 2026, and June 27, 2026. Because three years will have elapsed since its certification date of June 28, 2023, Concern B must seek a program examination, by SBA or a third-party certifier, at that time. In addition to its representation that it continues to be an eligible WOSB, Concern B must provide additional information as requested by SBA or a third-party certifier to demonstrate that it continues to meet all the eligibility requirements of the WOSB Program.

* * * * *

Dated: January 7, 2021.
Francis C. Spampinato,
Associate Administrator, Government Contracting and Business Development.

[FR Doc. 2021-00476 Filed 1-13-21; 8:45 am]

BILLING CODE 8026-03-P